NUCLEAR REGULATORY COMMISSION

Final Regulatory Guide: Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 1 of Regulatory Guide 3.71, entitled “Nuclear Criticality Safety Standards for Fuels and Material Facilities,” describes methods that the NRC staff finds acceptable for complying with the NRC's regulations in Title 10, Parts 70 and 76, of the Code of Federal Regulations. In 10 CFR Part 70, “Domestic Licensing of Special Nuclear Material,” Section 70.20, “General License To Own Special Nuclear Material,” states that a specific license is required to acquire, deliver, receive, possess, use, transfer, import, or export special nuclear material. According to 10 CFR 70.22, “Contents of Applications,” each application for such a license must contain proposed procedures to avoid nuclear criticality accidents. In 10 CFR Part 76, “Certification of Gaseous Diffusion Plants,” Section 76.87, “Technical Safety Requirements,” states that the technical safety requirements should reference procedures and equipment that are applicable to criticality prevention.

The NRC initially issued Regulatory Guide 3.71 in 1998 to provide guidance concerning procedures that the staff considered acceptable for complying with these portions of the NRC's regulations. Toward that end, the original guide endorsed specific nuclear criticality safety standards developed by the American Nuclear Society's Standards Subcommittee 8 (ANS-8), “Operations with Fissionable Materials Outside Reactors.” Those national standards provide guidance, criteria, and best practices for use in preventing and mitigating criticality accidents during operations that involve handling, processing, storing, and/or transporting special nuclear material at fuel and material facilities. The original guide also took exceptions to certain portions of individual ANS-8 standards. In addition, the original guide consolidated and replaced a number of earlier NRC regulatory guides, thereby providing all of the relevant guidance in a single document.

Since that time, several ANS-8 nuclear criticality safety standards have been added, reaffirmed, revised, or withdrawn. Consequently, the NRC staff decided to update this guide to clarify which standards the agency endorses and to clearly state exceptions to individual standards. Toward that end, the staff issued this revised regulatory guide as Draft Regulatory Guide DG-3023, with a Federal Register notice (70 FR 25128), dated May 12, 2005, to solicit stakeholder comments. The public comment period closed on June 20, 2005, without the submission of any stakeholder comments; however, the NRC staff further revised RG 3.71 based on review of additional changes to the consensus standards in the guide.

This revision does not change any of the guidance provided in the initial issuance of Regulatory Guide 3.71; rather, it provides guidance concerning changes that have occurred since the NRC published the original guide in 1998. For completeness, this guide restates the endorsements and exceptions stated in Regulatory Guide 3.71, as applicable, while identifying endorsements of or exceptions to new or modified standards.

Since the ANSI/ANS-8 standards are constantly being issued, revised, reaffirmed, or withdrawn, the NRC staff plans to revise this guide on a regular basis. The NRC staff encourages and welcomes comments and suggestions in connection with improvements to published regulatory guides, as well as items for inclusion in regulatory guides that are currently being developed. Comments may be accompanied by relevant information or supporting data. Please mention the guide number in the subject line of your submission. Comments submitted in writing or in electronic form will be made available to the public in their entirety on the NRC's Agencywide Documents Access and Management System (ADAMS). Personal information will not be removed from your comments. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about RG 3.71 may be directed to H.D. Felsher, at (301) 415-5521 or via e-mail to HDF@nrc.gov.

Electronic copies of RG 3.71 are available through the NRC's public Web site under the Regulatory Guides document collection of the NRC's Electronic Reading Room at http://www.nrc.gov/reading-rm/doc-collections/. Electronic copies are also available in the NRC's Agencywide Documents Access and Management System (ADAMS) at http://www.nrc.gov/reading-rm/adams.html, under Accession No. ML051940351.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by email to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them. (5 U.S.C. 552(a))

Dated at Rockville, Maryland, this 17th day of October, 2005.
For the Nuclear Regulatory Commission.
Carl J. Paperiello,
Director, Office of Nuclear Regulatory Research.

[FR Doc. E5-5948 Filed 10-25-05; 8:45 am]

BILLING CODE 7590-01-P